DEPARTMENT OF ENERGY

Federal Energy Regulatory Commission

[Project No. 13441-000]

FFP Iowa 3, LLC; Notice of Preliminary Permit Application Accepted for Filing and Soliciting Comments, Motions To Intervene, and Competing Applications

December 14, 2009.

On April 30, 2009, FFP Iowa 3, LLC filed an application pursuant to section 4(f) of the Federal Power Act, proposing to study the feasibility of the Mississippi River Lock and Dam No. 16 Water Power Project (Lock & Dam 16 Project) to be located at River Mile 457.2 on the Mississippi River near the town of Muscatine in Muscatine County, Iowa, and Rock Island County, Illinois.

The proposed Lock & Dam 16 Project would be located at the existing U.S. Army Corps of Engineers Lock & Dam No. 16 and would consist of: (1) Twenty six 760-kilowatt (kW) Very Low Head (VHL) generating units with a combined capacity of 19.7 megawatts (MW) to be installed integral with the dam, and one hundred 35-kW hydrokinetic generating units with a combined capacity of 3.5 MW to be installed in the Mississippi River in an area just downstream of the dam; and (2) a new 11,000 foot-long, 69-kilovolt (or greater) transmission line connected to an existing above-ground local distribution system. The project would have an estimated average annual generation of 96,400 megawatt-hours.

Applicant Contact: Mr. Daniel R. Irvin, Free Flow Power Corporation, 33 Commercial Street, Gloucester, MA 01930, (978) 252-7631.

FERC Contact: Patrick Murphy, (202) 502-8755.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings, please go to the Commission's Web site located at http://www.ferc.gov/filing-comments.asp. More information about this project can be viewed or printed on the “eLibrary” link of Commission's Web site at http://www.ferc.gov/docs-filing/elibrary.asp. Enter the docket number (P-13441) in the docket number field to access the document. For assistance, call toll-free 1-866-208-3372.

Kimberly D. Bose,
Secretary.

[FR Doc. E9-30237 Filed 12-18-09; 8:45 am]

BILLING CODE 6717-01-P